DEPARTMENT OF THE INTERIOR

Fish and Wildlife Service

Notice of Availability of a Draft Habitat Conservation Plan and Receipt of an Application for an Incidental Take Permit for Construction of a Single-Family Residential Home Site on the Lefever Property, Black Forest, CO

AGENCY: Fish and Wildlife Service, Interior.

ACTION: Notice of availability and receipt of application.

SUMMARY: This notice advises the public that Thomas Lefever (Applicant) has applied to the U.S. Fish and Wildlife Service (Service) for an incidental take permit pursuant to section 10(a)(1)(B) of the Endangered Species Act (Act) of 1973, as amended. The proposed permit would authorize the incidental take of the Preble's meadow jumping mouse (Zapus hudsonius preblei), federally-listed as threatened, through loss and modification of its habitat associated with construction and occupation of a residential home site at the Lefever Property, Black Forest, Colorado. The duration of the permit would be 5 years from the date of issuance.

We announce the receipt of the Applicant's incidental take permit application that includes a combined Environmental Assessment/Habitat Conservation Plan (EA/HCP) for the Preble's meadow jumping mouse (Preble's) for the Lefever Property. The proposed EA/HCP is available for public review and comment. It fully describes the proposed project and the measures the Applicant would undertake to minimize and mitigate project impacts to the Preble's.

The Service requests comments on the EA/HCP for the proposed issuance of the incidental take permit. We provide this notice pursuant to section 10(a) of the Act and National Environmental Policy Act regulations (40 CFR 1506.6). All comments on the EA and permit application will become part of the administrative record and will be available to the public.

DATES: Written comments on the permit application and EA/HCP should be received on or before September 6, 2002.

ADDRESSES: Comments regarding the permit application and EA/HCP should be addressed to LeRoy Carlson, Field Supervisor, U.S. Fish and Wildlife Service, Colorado Field Office, 755 Parfet Street, Suite 361, Lakewood, Colorado 80215.

FOR FURTHER INFORMATION CONTACT: Ms. Kathleen Linder, Fish and Wildlife Biologist, Colorado Field Office, telephone (303) 275-2370.

SUPPLEMENTARY INFORMATION:

Document Availability

Individuals wishing copies of the HCP and associated documents for review should immediately contact the above office. Documents also will be available for public inspection, by appointment, during normal business hours at the above address.

Background

Section 9 of the Act and Federal regulation prohibit the “take” of a species listed as endangered or threatened. Take is defined under the Act, in part, as to kill, harm, or harass a federally listed species. However, the Service may issue permits to authorize “incidental take” of listed species under limited circumstances. Incidental take is defined under the Act as take of a listed species that is incidental to, and not the purpose of, the carrying out of an otherwise lawful activity under limited circumstances. Regulations governing permits for threatened species are promulgated in 50 CFR 17.32.

The Lefever Property is located at 12715 Kaibab Court, Abert Estates Lot 4, along Black Squirrel Creek, in the Town of Black Forest, El Paso County, State of Colorado. The project site is 5.4 acres, but the proposed project will directly impact a maximum of 0.56 acre that may result in incidental take of the Preble's. Of the total amount of impacted acreage, 0.215 acre will be temporarily disturbed and will be revegetated. An HCP has been developed as part of the preferred alternative. The proposed HCP will allow for the incidental take of the Preble's by permitting a single family residence to be constructed in an area that may be periodically used as foraging or hibernation habitat.

Alternatives considered in addition to the Proposed Action, included waiting for the approval of the El Paso County Regional Habitat Conservation Plan, and no action. The draft EA analyzes the onsite, offsite, and cumulative impacts of the proposed project and all associated development and construction activities and mitigation activities on the Preble's, other threatened or endangered species, vegetation, wildlife, wetlands, geology/soils, land use, water resources, air and water quality, or cultural resources. None of the proposed impacts occur within the riparian corridor. All of the proposed impacts are in upland areas outside of the 100-year floodplain. The Applicant, using the Service's definition of Preble's habitat, has determined that the proposed project would impact approximately 0.56 acre of potential Preble's habitat. The mitigation will likely provide a net benefit to the Preble's mouse and other wildlife by improving or creating new riparian areas, planting of native shrubs, and protecting existing habitat along Black Squirrel Creek from any future development.

Only one federally listed species, the threatened Preble's, occurs on site and has the potential to be adversely affected by the project. To mitigate impacts that may result from incidental take, the HCP provides mitigation for the residential site by protection of the Black Squirrel Creek corridor onsite and its associated riparian areas from all future development through the replanting of 0.215 acre of temporarily disturbed grassland and the protection of an additional 4.3 acres on an existing conservation easement with enhancement of 0.89 acre through native shrub planting. Measures will be taken during construction to minimize impact to the habitat, including the use of silt fencing to reduce the amount of sediment from construction activities that reaches the creek. All of the proposed mitigation area is within the boundaries of the Lefever property, all of which is included in the drainage basin of Black Squirrel Creek.

This notice is provided pursuant to section 10(c) of the Act. We will evaluate the permit application, the EA/HCP, and comments submitted therein to determine whether the application meets the requirements of section 10(a) of the Act. If it is determined that those requirements are met, a permit will be issued for the incidental take of the Preble's in conjunction with the construction and occupation of a single-family residential lot on the Lefever Property. The final permit decision will be made no sooner than 60 days from the date of this notice.

Dated: June 19, 2002.
John A. Blankenship,
Acting Regional Director.

[FR Doc. 02-17072 Filed 7-5-02; 8:45 am]

BILLING CODE 4310-55-P